DEPARTMENT OF LABOR

Employment and Training Administration

Agency Information Collection Activities; Comment Request; Labor Standards for the Registration of Apprenticeship Programs

ACTION: Notice.

SUMMARY: The Department of Labor's (DOL's) Employment and Training Administration (ETA) is soliciting comments concerning a proposed revision for the authority to conduct the information collection request (ICR) titled, “Title 29 CFR part 29—Labor Standards for the Registration of Apprenticeship Programs.” This comment request is part of continuing Departmental efforts to reduce paperwork and respondent burden in accordance with the Paperwork Reduction Act of 1995 (PRA).

DATES: Consideration will be given to all written comments received by December 20, 2019.

ADDRESSES: A copy of this ICR with applicable supporting documentation, including a description of the likely respondents, proposed frequency of response, and estimated total burden, may be obtained free by contacting Tiffany Ramos by telephone at 202-693-3563 (this is not a toll-free number), TTY 1-877-889-5627 (this is not a toll-free number), or by email at OA-ICRs@dol.gov.

Submit written comments about, or requests for a copy of, this ICR by mail or courier to the U.S. Department of Labor, Employment and Training Administration, Office of Apprenticeship, Room C-5321, 200 Constitution Avenue NW, Washington, DC 20210; by email: OA-ICRs@dol.gov; or by Fax: 202-693-3799.

FOR FURTHER INFORMATION CONTACT: Contact Tiffany Ramos by telephone at 202-693-3563 (this is not a toll-free number) or by email at OA-ICRs@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

ETA is requesting the regular three-year approval on a revision to a currently approved ICR pursuant to the Paperwork Reduction Act. If approved, this request will enable ETA to continue to collect essential data concerning the labor standards of apprenticeship. Under the National Apprenticeship Act of 1937 (NAA) (29 U.S.C. 50), the Secretary of Labor is charged with the establishment of labor standards designed to safeguard the welfare of apprentices and promote apprenticeship opportunity. The NAA authorizes the Secretary of Labor to “publish information relating to existing and proposed labor standards of apprenticeship.” This proposed information collection request seeks a revision of approved ETA Form 671: Program Registration (Section I), Apprentice Registration (Section II), and a separate tear-off sheet for Apprentice Registration (Section II), titled “Voluntary Disability Disclosure,” (OMB Control No. 1205-0223), which is set to expire on January 31, 2020. Sections I and II of ETA Form 671 are available electronically to facilitate the registration of programs and apprentices.

The proposed revisions to ETA Form 671 consist of (1) minor edits for clarity in Sections I and II; (2) an update to the Office of Apprenticeship's room number in Section I; (3) a modification to the education level categories in Part A, 6 in Section II to align with the educational categories that the U.S. Census uses to obtain information; (4) an update to the field in Part B, 10a from “pre-apprenticeship hourly wage” to “prior hourly wage” to ensure that the earnings of a participant prior to beginning their apprenticeship is captured regardless if he or she participated in a pre-apprenticeship program; (5) deletion of the designation of a name and address of the Sponsor designee to receive complaints as optional; (6) and an update to the citation in Section II (Voluntary Disability Disclosure) to reflect the requirement that sponsors must invite apprentices and applicants to voluntarily self-identify whether or not they have a disability as required under Title 29 CFR part 30, Equal Employment Opportunity in Apprenticeship. The National Apprenticeship Act of 1937 authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0223.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Title 29 CFR part 29—Labor Standards for the Registration of Apprenticeship Programs.

Form: ETA Form 671.

OMB Control Number: 1205-0223.

Affected Public: Individuals/households, state/local/tribal governments, Federal government, private sector (businesses or other for-profits, and, not-for-profit institutions).

Estimated Number of Respondents: 314,891.

Frequency: One-time basis.

Total Estimated Annual Responses: 314,891.

Estimated Average Time per Response: Varies.

Estimated Total Annual Burden Hours: 29,838 hours.

Total Estimated Annual Other Cost Burden: $0.

John Pallasch,
Assistant Secretary for Employment and Training.

[FR Doc. 2019-22874 Filed 10-18-19; 8:45 am]

BILLING CODE 4510-FR-P